DEPARTMENT OF COMMERCE

International Trade Administration

[A-533-840]

Certain Frozen Warmwater Shrimp from India: Notice of Final Results of Antidumping Duty Changed Circumstances Review

AGENCY: Enforcement and Compliance, International Trade Administration, Department of Commerce.

SUMMARY: On December 16, 2020, the Department of Commerce (Commerce) published the preliminary results of a changed circumstances review of the antidumping duty order on certain frozen warmwater shrimp from India. For these final results, Commerce continues to find that LNSK Greenhouse Agro Products LLP (LNSK Greenhouse Agro) is the successor-in-interest to Green House Agro Products (Greenhouse Agro) in the context of the antidumping duty order on certain frozen warmwater shrimp from India.

DATES: Applicable March 26, 2021.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On August 17, 2020, LNSK Greenhouse Agro requested that Commerce conduct an expedited changed circumstances review, pursuant to section 751(b)(1) of the Tariff Act of 1930, as amended (the Act), 19 CFR 351.216, and 19 CFR 351.221(c)(3), to confirm that LNSK Greenhouse Agro is the successor-in-interest to Greenhouse Agro for purposes of determining antidumping duty cash deposits and liabilities.¹ In its submission, LNSK Greenhouse Agro stated that Greenhouse Agro converted its corporate structure from a partnership to a limited liability partnership and changed the company's name to LNSK Greenhouse Agro, but is otherwise unchanged with respect to the production and sale of subject merchandise.²

¹ See LNSK Greenhouse Agro's Letter, “LNSK Greenhouse Agro's Request for a Changed Circumstances Review in Certain Frozen Warmwater Shrimp from India, Case No. A-533-840,” dated August 17, 2020.

² Id.

On October 7, 2020, Commerce initiated this changed circumstances review.³ On December 16, 2020, Commerce published the Preliminary Results, preliminarily determining that LNSK Greenhouse Agro is the successor-in-interest to Greenhouse Agro.⁴ In the Preliminary Results, we provided all interested parties with an opportunity to comment.⁵ However, we received no comments.

³ See Certain Frozen Warmwater Shrimp from India: Notice of Initiation of Antidumping Duty Changed Circumstances Review, 85 FR 63252 (October 7, 2020).

⁴ See Certain Frozen Warmwater Shrimp from India: Preliminary Results of Antidumping Duty Changed Circumstances Review, 85 FR 81449 (December 16, 2020) (Preliminary Results).

⁵ Id.

Scope of the Order

The merchandise subject to the order is certain frozen warmwater shrimp.⁶ The product is currently classified under the following Harmonized Tariff Schedule of the United States (HTSUS) numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁶ For a complete description of the scope of the order, see Certain Frozen Warmwater Shrimp from India: Final Results of Antidumping Duty Administrative Review and Final Determination of No Shipments; 2018-2019, 85 FR 85580 (December 29, 2020), and accompanying Issues and Decision Memorandum at “Scope of the Order” section.

Final Results of Changed Circumstances Review

For the reasons stated in the Preliminary Results, Commerce continues to find that LNSK Greenhouse Agro is the successor-in-interest to Greenhouse Agro. As a result of this determination and consistent with established practice, we find that LNSK Greenhouse Agro should receive the cash deposit rate previously assigned to Greenhouse Agro. Consequently, Commerce will instruct U.S. Customs and Border Protection to suspend liquidation of all shipments of subject merchandise produced or exported by LNSK Greenhouse Agro and entered, or withdrawn from warehouse, for consumption on or after the publication date of this notice in the Federal Register at 3.06 percent, which is the current antidumping duty cash deposit rate for Greenhouse Agro.⁷ This cash deposit requirement shall remain in effect until further notice.

⁷ Id., 85 FR at 85582.

Notification to Interested Parties

We are issuing this determination and publishing these final results and notice in accordance with sections 751(b)(1) and 777(i)(1) and (2) of the Act and 19 CFR 351.216(e), 351.221(b), and 351.221(c)(3).

Dated: March 22, 2021.
Christian Marsh,
Acting Assistant Secretary for Enforcement and Compliance.

[FR Doc. 2021-06297 Filed 3-25-21; 8:45 am]

BILLING CODE 3510-DS-P